FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011426-062.

Title: West Coast of South America Discussion Agreement.

Parties: CMA CGM S.A.; Hamburg-Süd; Mediterranean Shipping Company, SA; and Seaboard Marine Ltd.

Filing Party: Wayne R. Rohde, Esq.; Cozen O'Conner; 1200 Nineteenth Street NW.; Washington, DC 20036.

Synopsis: The amendment deletes Hapag-Lloyd as a party to the Agreement, and reflects the recent resignation of Trinity Shipping Line as a party to the Agreement.

Agreement No.: 012109-001.

Title: CSAV/Hoegh Autoliners Mexico/USA Space Charter Agreement.

Parties: Compania Sud Americana De Vapores S.A. and Hoegh Autoliners AS.

Filing Party: Wayne Rohde, Esq.; Cozen O'Connor; 1200 Nineteenth Street NW.; Washington, DC 20036.

Synopsis: The amendment adds Colombia, Ecuador, Peru, and Chile to the geographic scope of the Agreement, corrects the addresses of the Parties, and adds a new Article 11 to the Agreement.

Agreement No.: 012200-003.

Title: G6/Zim Transpacific Vessel Sharing Agreement.

Parties: American President Lines, Ltd. and APL Co. Pte, Ltd. (Operating as one Party); Hapag-Lloyd AG; Hapag-Lloyd USA LLC; Hyundai Merchant Marine Co., Ltd.; Mitsui O.S.K. Lines, Ltd.; Nippon Yusen Kaisha; Orient Overseas Container Line, Limited.; and Zim Integrated Shipping Services Limited.

Filing Party: David F. Smith, Esq.; Cozen O'Connor; 1200 Nineteenth Street NW.; Washington, DC 20036.

Synopsis: The amendment deletes existing authority for the parties to engage in slot exchanges between the joint strings operated under the Agreement, and other G6 service strings.

Agreement No.: 012422.

Title: Liberty Global Logistics/NYK Space Charter Agreement.

Parties: Liberty Global Logistics, LLC and Nippon Yusen Kaisha.

Filing Party: Kristen Chung, Corporate Counsel, NYK Line (North America) Inc.; 300 Lighting Way, 5th Floor; Secaucus, NJ 07094.

Synopsis: The Agreement would authorize the parties to share vessels and vessel space for the carriage of ro/ro cargo in the trades between ports and places in the United States and ports or places in a foreign country.

Agreement No.: 012423.

Title: Glovis/NYK Space Charter Agreement.

Parties: Hyundai Glovis Co. Ltd. and Nippon Yusen Kaisha.

Filing Party: Kristen Chung, Corporate Counsel, NYK Line (North America) Inc.; 300 Lighting Way, 5th Floor; Secaucus, NJ 07094.

Synopsis: The Agreement would authorize the parties to share vessels and vessel space for the carriage of ro/ro cargo in the trades between ports and places in the United States and ports or places in a foreign country.

Agreement No.: 201178-001.

Title: Los Angeles/Long Beach Port/Terminal Operator Administration and Implementation Agreement.

Parties: The West Coast MTO Agreement and its individual marine terminal operator members; The City of Los Angeles, acting by and through its Board of Harbor Commissioners; and The City of Long Beach, acting by and through its Board of Harbor Commissioners.

Filing Party: David F. Smith, Esq.; Cozen O'Conner; 1200 Nineteenth Street NW.; Washington, DC 20036.

Synopsis: The amendment would add authority for the Parties to discuss issues relating to congestion and port and terminal efficiency.

By Order of the Federal Maritime Commission.
Dated: June 30, 2016.
Rachel E. Dickon,
Assistant Secretary.

[FR Doc. 2016-16011 Filed 7-6-16; 8:45 am]

BILLING CODE 6731-AA-P